GENERAL SERVICES ADMINISTRATION

[Notice-MG-2023-01; Docket No. 2023-0002; Sequence No. 14]

Office of Federal High-Performance Green Buildings; Green Building Advisory Committee; Notification of Upcoming Public Meetings

AGENCY: Office of Government-wide Policy, General Services Administration (GSA).

ACTION: Meeting notice.

SUMMARY: In accordance with the requirements of the Federal Advisory Committee Act, this notice provides the agenda for an in-person and Web-based (hybrid) meeting of the Green Building Advisory Committee (the Committee) and a series of Web-based meetings of the Committee's new Green Leasing Task Group (the Task Group). The in-person meeting is open to the public and the site is accessible to individuals with disabilities. All meetings are open for the public to observe; online attendees are required, and in-person attendees are encouraged to register in advance to attend as instructed below.

DATES: The Committee's hybrid meeting will be held Wednesday, May 10, 2023, online and in-person from 10:00 a.m.-12:30 p.m., Central Time (11:00 a.m.-1:30 p.m., Eastern Time) at the Minneapolis Marriott City Center, 30 South 7th Street Minneapolis, Minnesota, USA, 55402. In addition, the Committee's Green Leasing Task Group will hold a series of Web-based meetings on alternate Thursdays from May 18, 2023, through December 14, 2023, from 3:00 p.m. to 4:00 p.m., Eastern Time (ET).

FOR FURTHER INFORMATION CONTACT: Dr. Ken Sandler, Designated Federal Officer, Office of Federal High-Performance Green Buildings, Office of Government-wide Policy, GSA, 1800 F Street NW, (Mail-code: MG), Washington, DC 20405, at 202-219-1121, or at gbac@gsa.gov. Additional information about the Committee, including meeting materials and agendas, will be made available on-line at http://www.gsa.gov/gbac.

SUPPLEMENTARY INFORMATION:

Procedures for Attendance and Public Comment

To obtain information on observing any or all of these meetings, please follow the instructions on the Committee website at: https://www.gsa.gov/governmentwide-initiatives/federal-highperformance-green-buildings/policy/green-building-advisory-committee/advisory-committee-meetings. Registrants will be asked to provide your full name, organization and email address, which meetings you would like to observe, and, for the hybrid May 10, 2023 meeting, whether you plan to attend in-person or online, and whether you would like to provide public comment. Requests to observe the May 10, 2023 meeting virtually must be received by 5:00 p.m. ET, on Wednesday, May 3, 2023 in order to receive the meeting information. Registration for in-person attendance is highly encouraged.

Requests to observe the full series of Task Group meetings must be received by 5:00 p.m. ET, on Monday, May 15, 2023. After that time, requests to observe ongoing Task Group meetings must be received by 5:00 p.m. ET on the Monday before the meeting in question. Since Task Group meetings are conducted as a series, it will be most useful to observe all or most of them from the start.

For all online meetings, Web meeting attendance information will be provided following registration. Time will be provided at all meetings for public comment wherever possible.

GSA will be unable to provide technical assistance to any listener experiencing technical difficulties. Testing access to the Web meeting site before the calls is recommended. To request an accommodation, such as closed captioning, or to ask about accessibility, please contact Dr. Sandler at gbac@gsa.gov at least 10 business days prior to the meeting to give GSA as much time as possible to process the request.

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

May 10, 2023 Meeting Agenda

• Introductions

• GSA Updates

• Federal Building Decarbonization Task Group Update

• Federal Green Leasing:

○ The Challenge and Proposed Plans

○ Public Discussion: How to Engage the Commercial Building Market?

• Additional Public Comment and Closing Comments

Green Leasing Task Group

The Green Leasing Task Group will explore and recommend approaches to help GSA meet federal requirements for net zero greenhouse gas emissions in its leasing of space in privately-owned commercial buildings for federal use.

The purpose of these Web-based meetings is for the Task Group to develop consensus recommendations for submission to the full Committee. The Committee will, in turn, deliberate on the Task Group recommendations and decide whether to proceed with formal advice to GSA based upon them.

Kevin Kampschroer,
Federal Director, Office of Federal High-Performance Green Buildings, General Services Administration.

[FR Doc. 2023-08769 Filed 4-27-23; 8:45 am]

BILLING CODE 6820-14-P